ENVIRONMENTAL PROTECTION AGENCY

40 CFR Part 312

[EPA-HQ-SFUND-2013-0513; FRL-9902-22-OSWER]

Amendment to Standards and Practices for All Appropriate Inquiries

AGENCY: Environmental Protection Agency (EPA).

ACTION: Withdrawal of direct final rule.

SUMMARY: Because EPA received adverse comment, we are withdrawing the direct final rule for the Amendment to Standards and Practices for All Appropriate Inquiries published on August 15, 2013.

DATES: Effective October 29, 2013, EPA withdraws the direct final rule published at 78 FR 49690, on August 15 2013.

FOR FURTHER INFORMATION CONTACT: Rachel Lentz, Office of Brownfields and Land Revitalization (5105-T), U.S. Environmental Protection Agency, 1200 Pennsylvania Ave. NW., Washington, DC 20460-0002; telephone number: 202-566-2745; fax number: 202-566-1476; email address: lentz.rachel@epa.gov.

SUPPLEMENTARY INFORMATION: Because EPA received adverse comment, we are withdrawing the direct final rule for the Amendment to Standards and Practices for All Appropriate Inquiries published on August 15, 2013 (78 FR 49690). We stated in that direct final rule that if we received adverse comment by September 16, 2013, the direct final rule would not take effect and we would publish a timely withdrawal in the Federal Register. We subsequently received adverse comment on that direct final rule. We will address the comments received in any subsequent final action. As stated in the direct final rule and the parallel proposed rule, we will not institute a second comment period on the parallel proposed rule published on August 15, 2013 (78 FR 49714).

List of Subjects in 40 CFR Part 312

Administrative practice and procedure, Hazardous substances.

Dated: October 22, 2013.
Mathy Stanislaus,
Assistant Administrator, Office of Solid Waste and Emergency Response.

Accordingly, EPA withdraws the amendments to 40 CFR 312.11(c), published in the Federal Register on August 15, 2013 (78 FR 49690), as of October 29, 2013.

[FR Doc. 2013-25592 Filed 10-28-13; 8:45 am]

BILLING CODE 6560-50-P